POSTAL SERVICE

Board of Governors;

Sunshine Act Meeting

Dates and Times: Monday, December 8, 2003, at 1 p.m.; Tuesday, December 9, 2003, at 8:30 a.m.

Place: Washington, DC, at U.S. Postal Service Headquarters, 475 L'Enfant Plaza, SW., in the Benjamin Franklin Room.

Status: December 8-1:00 p.m. (Closed); December 9-8:30 a.m. (Open).

Matters to be Considered:

Monday, December 8—1 p.m. (Closed)

1. Audit and Finance Committee Report and Review of Year-End Financial Statements.

2. Financial Update.

3. Strategic Planning.

4. Personnel Matters and Compensation Issues.

Tuesday, December 9—8:30 a.m. (Open)

1. Minutes of the Previous Meeting, November 3-4, 2003.

2. Remarks of the Postmaster General and CEO.

3. Committee Reports.

4. Fiscal Year 2003 Audited Financial Statements.

5. Postal Service Fiscal Year 2003 Annual Report.

6. Final Fiscal Year 2005 Appropriation Request.

7. Tentative Agenda for the January 5-6, 2004, meeting in Washington, DC.

FOR FURTHER INFORMATION CONTACT: William T. Johnstone, Secretary of the Board, U.S. Postal Service, 475 L'Enfant Plaza SW., Washington, DC. 20260-1000. Telephone (202) 268-4800.

William T. Johnstone,
Secretary.

[FR Doc. 03-30210 Filed 12-1-03; 4:40 pm]

BILLING CODE 7710-12-M